NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13 (44 U.S.C. 3501 et seq.). This is the second notice for public comment; the 60-day Federal Register notice was published for public comment on April 9, 2013, at 78 FR 21162, and amended on April 12, 2013, at 78 FR 21979. No comments were received. NSF is forwarding the proposed submission to the Office of Management and Budget (OMB) for clearance simultaneously with the publication of this second notice. The full submission may be found at http://www.reginfo.gov/public/do/PRAMain.

Comments: Comments regarding (a) Whether the proposed collection of information is necessary for the proper performance of the functions of NSF, including whether the information will have practical utility; (b) the accuracy of NSF's estimate of the burden of the proposed collection of information; (c) ways to enhance the quality, utility, and clarity of the information to be collected; and (d) ways to minimize the burden of the collection of information on respondents, including through the use of appropriate automated or other forms of information technology should be addressed to: Office of Information and Regulatory Affairs of OMB, Attention: Desk Officer for National Science Foundation, 725 7th Street NW., Room 10235, Washington, DC 20503, and Suzanne H. Plimpton, Reports Clearance Officer, National Science Foundation, 4201 Wilson Boulevard, Suite 1265, Arlington, VA 22230 or send email to splimpto@nsf.gov. Individuals who use a telecommunications device for the deaf (TDD) may call the Federal Information Relay Service (FIRS) at 1-800-877-8339, which is accessible 24 hours a day, 7 days a week, 365 days a year (including federal holidays).

DATES: Comments regarding these information collections are best assured of having their full effect if received within 30 days of this notification. Copies of the submission may be obtained by calling 703-292-7556. NSF may not conduct or sponsor a collection of information unless the collection of information displays a valid OMB control number and the agency informs potential persons who are to respond to the collection of information that such persons are not required to respond to the collection of information unless it displays a currently valid OMB control number.

SUPPLEMENTARY INFORMATION: Title of Collection: Early Career Doctorates Survey.

OMB Approval Number: 3145-NEW.

Type of Request: Intent to seek approval for new information collection for three years.

1. Abstract: The National Center for Science and Engineering Statistics (NCSES) was established within the NSF by Section 505 of the America COMPETES Reauthorization Act of 2010. NCSES serves as a central Federal clearinghouse for the collection, interpretation, analysis, and dissemination of objective data on science, engineering, technology, and research and development for use by practitioners, researchers, policymakers, and the public. The Early Career Doctorates Survey will become part of an integrated survey system that meets the human resources part of this mission.

The Early Career Doctorates Project was established to gather in-depth information about early career doctorates (ECD), including postdoctoral researchers (postdocs). Early career doctorates are critical to the success of the U.S. scientific enterprise and will influence U.S. and global scientific markets for years to come. Despite their importance, current surveys of this population are limited, and extant workforce studies are insufficient for all doctorates who contribute to the U.S. economy. The NSF's Survey of Earned Doctorates and the Survey of Doctorate Recipients are limited to individuals who received research doctorates from U.S. academic institutions, thereby excluding individuals who earned professional doctorates and those who earned doctorates from institutions outside the United States but are currently employed in the United States. The NSF's Survey of Graduate Students and Postdoctorates in Science and Engineering (GSS) provides aggregate level data for all postdocs and nonfaculty researchers regardless of where they earned the degree. However, the GSS is limited to science, engineering, and selected health (SEH) fields in U.S. academic institutions and their related research facilities and is collected at the program rather than the individual level.

Through its multi-year Postdoc Data Project, NCSES determined the need for and the feasibility of gathering information about postdocs and ECD working in the United States. Efforts to reliably identify and gather information about postdocs proved difficult due to substantial variation in how institutions characterize postdoc appointments. As a result, NCSES expanded the target population to include all individuals who earned their first doctorate within the past 10-years, defined as ECD. Expanding the population to doctoral degree holders ensures a larger, more consistent and reliable target population. Unique in scope, the key goals of the ECD Project are:

• To broaden the scope and depth of national statistics on the ECD population both U.S. degreed and non-U.S. degreed, across employment sectors and fields of discipline

• To collect nationally representative data from ECD that can be used by funding agencies, policy makers, and other researchers to better understand the labor markets and work experiences of recent doctorate recipients

• To establish common definitions for different types of ECD (e.g., postdocs, junior faculty, and other nonfaculty researchers) that can be applied across and within employment sectors

The current focus of the Early Career Doctorates Project is to conduct a survey of ECD working in three areas of employment: U.S. academic institutions, Federally Funded Research and Development Centers, and the National Institutes of Health Intramural Research Programs. NCSES, under generic clearance (OMB #3145-0174), conducted a methodological study to test a data collection strategy that uses institutional contacts as the conduit for questionnaire dissemination to ECD in the above employment settings. This data collection strategy will be used in the survey of ECD (ECDS). The survey will be a two stage sample survey design.

Beginning in June 2014, NSF will collect lists of ECD from 201 institutions nationwide, then sample and survey 8,250 ECD from these lists. Sample members will be invited to participate in a 30-minute web-based questionnaire. The survey will cover: Educational achievement, professional activities, employer demographics, professional and personal life balance, mentoring, training and research opportunities, and career paths and plans. Participation in the survey is voluntary. All information will be used for statistical purposes only.

The NSF will publish statistics from the survey in several reports, including NCSES' Science and Engineering Indicators report. These reports will be made available in print and electronically on the NSF Web site. Restricted-use and public use data files will also be developed.

The survey will be collected in conformance with the Privacy Act of 1974 and the Confidential Information Protection and Statistical Efficiency Act (CIPSEA). Responses from individuals are voluntary. The NSF will ensure that all individually identifiable information collected will be kept strictly confidential and will be used for research or statistical purposes, analyzing data, and preparing scientific reports and articles.

2. Expected Respondents: There are four types of respondents to the survey: Institutional high authority (HA), list coordinator (LC), ECD contactor (EC), and individual ECD. The HA, LC, and EC are involved at the first stage of the sample survey design. At each institution, a high authority (HA) will authorize the institution's participation in the study, designate a list coordinator (LC) and an ECD contactor (EC), and provide a letter of support for the survey. The primary responsibility of the LC is to prepare a list of ECD employed at the institution. The LC will provide a list of all ECD, that is, individuals working at their institution who earned their first doctorate or doctorate-equivalent degree within the past 10 years, including postdocs, nonfaculty researchers, tenured or tenure-track faculty members.

In the second stage, the EC will notify the sampled individual of their selection and NSF will survey these individuals. The survey will sample 8,250 ECD from 201 institutions. It is expected that 80% of the sampled ECD will participate, yielding 6,600 ECD respondents.

3. Estimate of Burden: In the methodological study, HAs required 1 hour on average to complete these tasks while the LCs required an average of 6 hours to fulfill their duties. Assuming that 100% of the institutions will participate, we estimate the total HA burden to be 201 hours and total burden for LCs is 1,206 hours. Most ECs were able to complete this task in less than 30 minutes in the methodological study. It is expected that 5% of the sampled institutions will choose to have NSF contact the ECD directly without involvement of ECs. We estimate a total burden of 96 hours for ECs.

NCSES estimates that respondents will take 30 minutes on average to complete the questionnaire based on the time to completion data from the methodological study. Assuming 6,600 respondents, we estimate the total burden for ECD to be 3,300 hours.

Taking into account all four respondent types (HAs, LCs, ECs, and ECD), we estimate the total respondent burden to be 4,803 hours. The below table showed the estimated burden by stage and respondent type.

ECDS Estimated Burden by Stage and Respondent Type
Respondent type | Minutes per respondent | Number of respondents | Expected response rate (%) | Estimated total hours
Stage 1: Frame Creation:
High Authority (HA) | 60 | 201 | 100 | 201
List Coordinator (LC) | 360 | 201 | 100 | 1,206
Subtotal |  |  |  | 1,407
Stage 2: ECD Survey:
ECD Contactor (EC) | 30 | 201 | 95 | 96
Early Career Doctorate (ECD) | 30 | 8,250 | 80 | 3,300
Subtotal |  |  |  | 3,396
Total |  |  |  | 4,803

Date: April 28, 2014.
Suzanne H. Plimpton,
Reports Clearance Officer, National Science Foundation.

[FR Doc. 2014-09954 Filed 4-30-14; 8:45 am]

BILLING CODE 7555-01-P